Proclamation 9435 of April 29, 2016

National Building Safety Month, 2016

By the President of the United States of America

A Proclamation

Buildings across our country provide safety and shelter to our people. From high-rises that form our cities' skylines to ranch homes that blanket the countryside, our buildings offer places to gather and perform daily activities, and they must have sound, secure, and resilient structures. During National Building Safety Month, we recognize and pay tribute to those who ensure the safety and resilience of our Nation's buildings, and we reaffirm our commitment to upholding and abiding by strong and effective building safety standards.

Maintaining the safety and resilience of our homes and buildings is imperative. By using disaster-resistant building codes and standards, resilient construction materials, and safe and performance-based design methods, we can safeguard the workplaces, houses, schools, and other facilities that provide us with space to grow, live, and learn. Americans can also take steps to secure buildings before natural disasters strike by elevating properties where necessary, anchoring furniture and other materials, reinforcing doors, and covering windows. I encourage everyone to visit www.Ready.gov to learn about more ways to keep yourself and those around you safe in your homes and businesses.

The Federal Government is leading by example. To prepare for natural disasters, I have signed Executive Orders that strengthen the security of Federal buildings and assets and improve their resilience to floods and earthquakes, reduce the risks of harm to people, lower recovery costs, and make it easier for communities to recover faster and emerge stronger. Later this month, the White House will bring together collaborators from the public and private sectors at a Conference on Resilient Building Codes. This event will underscore the critical role building codes play in ensuring community resilience, and it will strengthen our national commitment to advancing resilience in the built environment, from codes and standards to building design and construction.

The consequences of natural disasters can be exacerbated by the effects of a changing climate—including through stronger storms and longer wildfire seasons—so it is crucial that we ensure our buildings are resilient to the impacts of climate change. My Administration has worked with communities to build climate-resilient infrastructure to prepare for the impacts of climate change that we can no longer prevent, and we are continuing to invest in energy efficiency in our buildings.

All people deserve to feel safe in the buildings we inhabit day in and day out. With care and attention, we can secure and protect the places we spend time in. This month, let us take action to safeguard America's homes, schools, and other buildings, and let us ensure those responsible for this important work have the tools and resources they need.

NOW, THEREFORE, I, BARACK OBAMA, President of the United States of America, by virtue of the authority vested in me by the Constitution and the laws of the United States, do hereby proclaim May 2016 as National Building Safety Month. I encourage citizens, government agencies, businesses, nonprofits, and other interested groups to join in activities that raise awareness about building safety. I also call on all Americans to learn more about how they can contribute to building safety at home and in their communities.

IN WITNESS WHEREOF, I have hereunto set my hand this twenty-ninth day of April, in the year of our Lord two thousand sixteen, and of the Independence of the United States of America the two hundred and fortieth.

[FR Doc. 2016-10648

Filed 5-3-16; 11:15 am]

Billing code 3295-F6-P